DEPARTMENT OF HEALTH AND HUMAN SERVICES

Health Care Financing Administration

[Document Identifier: HCFA-10026]

Emergency Clearance: Public Information Collection Requirements Submitted to the Office of Management and Budget (OMB)

AGENCY: Health Care Financing Administration, DHHS.

In compliance with the requirement of section 3506(c)(2)(A) of the Paperwork Reduction Act of 1995, the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collections referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR Part 1320. This is necessary to ensure that Medicare beneficiaries are able to continue to receive care in the event that their managed care provider leaves the Medicare program. We cannot reasonably comply with the normal clearance procedures because of public harm due to an unanticipated event. An unexpectedly significant number of managed care plans withdrew from Medicare or reduced their service areas at the end of 1998 and 1999 and more will withdraw at the end of 2000. We are concerned about the impact of the withdrawals on beneficiaries, particularly those living in areas with no remaining managed care options. We are also concerned about beneficiary confusion related to the withdrawals and beneficiary understanding of the options for replacing managed care coverage. As a result we need to conduct a survey that will give us the information we need to assist the beneficiaries.

HCFA is requesting OMB review and approval of this collection by January 15, 2001 with a 180-day approval period. Written comments and recommendations will be accepted from the public if received by the individuals designated below by January 8, 2001. During this 180-day period, we will publish a separate Federal Register notice announcing the initiation of an extensive 60-day agency review and public comment period on these requirements. We will submit the requirements for OMB review and an extension of this emergency approval. Type of Information Request: New collection; Title of Information Collection: Survey of Beneficiaries Who Involuntarily Disenroll from Their Managed Care Plan; HCFA Form Number: HCFA-10026 (OMB approval #: 0938-NEW); Use: In December 2000, over 100 managed care plans will withdraw from Medicare or reduce their service area, affecting nearly 1,000,000 Medicare beneficiaries. HCFA wishes to survey approximately 3,400 affected beneficiaries in early 2001 to determine how they were affected by the withdrawals and whether they received sufficient information about options for replacing their managed care coverage; Frequency: Once; Affected Public: Individuals or households; Number of Respondents: 3,385; Total Annual Responses: 3,385; Total Annual Burden Hours: 587.

We have submitted a copy of this notice to OMB for its review of these information collections. A notice will be published in the Federal Register when approval is obtained.

To obtain copies of the supporting statement and any related forms for the proposed paperwork collections referenced above, access HCFA's Web Site address at http://www.hcfa.gov/regs/prdact95.htm, or E-mail your request, including your address, phone number, OMB number, and HCFA document identifier, to Paperwork@hcfa.gov, or call the Reports Clearance Office on (410) 786-1326.

Interested persons are invited to send comments regarding the burden or any other aspect of these collections of information requirements.

However, as noted above, comments on these information collection and recordkeeping requirements must be mailed and/or faxed to the designees referenced below, by January 8, 2001:

Health Care Financing Administration, Office of Information Services, Security and Standards Group, Division of HCFA Enterprise Standards, Room N2-14-26, 7500 Security Boulevard, Baltimore, MD 21244-1850. Fax Number: (410) 786-0207 Attn: Julie Brown HCFA-10026

and,

Office of Information and Regulatory Affairs, Office of Management and Budget, Room 10235, New Executive Office Building, Washington, DC 20503, Fax Number: (202) 395-6974 or (202) 395-5167 Attn: Wendy Taylor HCFA Desk Officer.

Dated: December 5, 2000.
John P. Burke III,
HCFA Reports Clearance Officer, HCFA, Office of Information Services, Security and Standards Group, Division of HCFA Enterprise Standards.

[FR Doc. 00-32335 Filed 12-19-00; 8:45 am]

BILLING CODE 4120-03-P